NATIONAL TRANSPORTATION SAFETY BOARD

Sunshine Act Meeting; Agenda

Time and Date: 9:30 a.m., Tuesday, July 8, 2008

Place: NTSB Conference Center, 429 L'Enfant Plaza, SW., Washington, DC 20594.

Status: The one item is open to the public.

Matter To Be Considered: 8021 Highway Accident Report—Motorcoach Override of Elevated Exit Ramp, Interstate 75, Atlanta, Georgia, March 2, 2007 (HWY-07-MH-015).

News Media Contact: Telephone: (202) 314-6100.

Individuals requesting specific accommodations should contact Rochelle Hall at (202) 314-6305 by Thursday, July 3, 2008.

The public may view the meeting via a live or archived Webcast by accessing a link under “News & Events” on the NTSB home page at http://www.ntsb.gov.

FOR FURTHER INFORMATION CONTACT: Vicky D'Onofrio, (202) 314-6410.

Dated: Monday, June 30, 2008.
Candi R. Bing,
Federal Register Liaison Officer.

[FR Doc. E8-15248 Filed 7-2-08; 8:45 am]

BILLING CODE 7533-01-P